FEDERAL COMMUNICATIONS COMMISSION

47 CFR Part 73

[DA 04-3849; MM Docket No. 00-226; RM-10001]

Radio Broadcasting Services; Fair Bluff, NC, Johnsonville, Litchfield Beach, and Olanta, SC

AGENCY: Federal Communications Commission.

ACTION: Final rule; dismissal of petition for reconsideration.

SUMMARY: At the request of Joint Petitioner Waccamaw Neck Broadcasting Company, licensee of Station WPDT(FM), Channel 286A, Johnsonville, South Carolina this document dismisses the Joint Petition for Reconsideration of the Report and Order, 66 FR 18088 (October 24, 2001), in this proceeding, filed by Atlantic Broadcasting Co., Inc., permittee of Station WSIM(FM), Channel 287C3, Fair Bluff, North Carolina, and Waccamaw Neck Broadcasting Company.

FOR FURTHER INFORMATION CONTACT: Victoria M. McCauley, Media Bureau (202) 418-2180.

SUPPLEMENTARY INFORMATION: This is a synopsis of the Commission's Memorandum Opinion and Order, MM Docket No. 00-226, adopted December 15, 2004, and released December 17, 2004. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. Document is not subject to the Congressional Review Act. The Commission, is, therefore, not required to submit a copy of this Report and Order to GAO, pursuant to the Congressional Review Act, see 5 U.S.C. 801(a)(1)(A) because the proposed rule was dismissed, herein.

Federal Communications Commission.
John A. Karousos,
Assistant Chief, Audio Division, Media Bureau.

[FR Doc. 05-116 Filed 1-4-05; 8:45 am]

BILLING CODE 6712-01-P